DEPARTMENT OF TRANSPORTATION

Surface Transportation Board

[Docket No. AB 1108X]

Blacklands Railroad, Inc.—Discontinuance Exemption—In Rusk County, TX

On February 4, 2013, Blacklands Railroad, Inc. (Blacklands) filed with the Surface Transportation Board (Board) a petition under 49 U.S.C. 10502 for exemption from the prior approval requirements of 49 U.S.C. 10903 to discontinue lease operations over a 0.9-mile line of railroad owned by the Rusk County Rural Rail District (RCRRD) ¹ between milepost 15.2 and milepost 16.1 at Henderson, in Rusk County, Tex. (the Line).² The line traverses U.S. Postal Service Zip Code 75652. There are no stations on the Line. According to the petition, there has been no local traffic on the Line since August 2011, and the Line is stub-ended and therefore not capable of handling overhead traffic.

¹ On January 18, 2013, RCRRD filed a petition for exemption to abandon the Line. See Rusk Cnty. Rural Rail Dist.—Aban. Exemption—in Rusk Cnty., Tex., Docket No. AB 1103X.

² Blacklands was granted authority to lease and operate the Line in Blacklands Railroad, Inc.—Lease & Operation Exemption—Rusk County Rural Rail District, FD 35327 (STB served Dec. 11, 2009).

The interest of railroad employees will be protected by the conditions set forth in Oregon Short Line Railroad-Abandonment Portion Goshen Branch Between Firth & Ammon, in Bingham & Bonneville Counties, Idaho, 360 I.C.C. 91 (1979).

By issuance of this notice, the Board is instituting an exemption proceeding pursuant to 49 U.S.C. 10502(b). A final decision will be issued no later than May 24, 2013.

Because this is a discontinuance proceeding and not an abandonment, interim trail use/rail banking and public use conditions are not appropriate. Similarly, no environmental or historic documentation is required under 49 CFR 1105.6(c)(2) and 1105.8(b).

Any offer of financial assistance (OFA) under 49 CFR 1152.27(b)(2) to subsidize continued rail service will be due no later than June 3, 2013, or 10 days after service of a decision granting the petition for exemption, whichever occurs sooner. Each OFA to subsidize continued rail service must be accompanied by the filing fee, which is currently set at $1,600. See 49 CFR 1002.2(f)(25).

All filings in response to this notice must refer to Docket No. AB 1108X and must be sent to: (1) Surface Transportation Board, 395 E Street SW., Washington, DC 20423-0001; and (2) Karl Morell, Ball Janik LLP, 655 Fifteenth Street NW., Suite 225, Washington, DC 20005. Replies to the petition are due on or before March 14, 2013.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis at (202) 245-0305. [Assistance for the hearing impaired is available through the Federal Information Relay Service (FIRS) at 1-800-877-8339.]

Board decisions and notices are available on our Web site at www.stb.dot.gov.

Decided: February 19, 2013.
By the Board, Rachel D. Campbell, Director, Office of Proceedings.
Derrick A. Gardner,
Clearance Clerk.

[FR Doc. 2013-04132 Filed 2-21-13; 8:45 am]

BILLING CODE 4915-01-P